ENVIRONMENTAL PROTECTION AGENCY

40 CFR Part 52

[CT058-7217a; A-1-FRL-6886-5]

Approval and Promulgation of Air Quality Implementation Plans; Connecticut; Changes to Various VOC Regulations

AGENCY: Environmental Protection Agency (EPA).

ACTION: Direct final rule.

SUMMARY: EPA is approving several revisions to the Connecticut (CT) State Implementation Plan (SIP). The revisions being approved consist of changes to various volatile organic compound (VOC) regulations that are currently in the CT SIP. These changes include: revisions to the definition of VOC; revisions to the gasoline loading regulation; revisions to the metal cleaning regulation; revisions to the miscellaneous metal parts and products coating regulation; and revisions to CT's “reasonably available control technology (RACT) for volatile organic compounds” regulation. Additionally, EPA is approving CT's negative declarations for the synthetic organic chemical manufacturing industry (SOCMI) distillation and reactor vessel source categories for which EPA issued control technique guideline documents (CTGs).

The intended effect of this action is to approve these revisions to the SIP in accordance with sections 110 and 182(b)(2) of the Clean Air Act (CAA).

DATES: This direct final rule is effective on December 18, 2000 without further notice, unless EPA receives relevant adverse comment by November 20, 2000. If relevant adverse comment is received, EPA will publish a timely withdrawal of the direct final rule in the Federal Register and inform the public that the rule will not take effect.

ADDRESSES: Comments may be mailed to David Conroy, Unit Manager, Air Quality Planning, Office of Ecosystem Protection (mail code CAQ), U.S. Environmental Protection Agency, EPA-New England, One Congress Street, Suite 1100, Boston, MA 02114-2023. Copies of the documents relevant to this action are available for public inspection during normal business hours, by appointment at the Office Ecosytem Protection, U.S. Environmental Protection Agency, Region I, One Congress Street, 11th floor, Boston, MA and the Bureau of Air Management, Department of Environmental Protection, State Office Building, 79 Elm Street, Hartford, CT 06106-1630.

FOR FURTHER INFORMATION CONTACT: Anne E. Arnold at 617-918-1047.

SUPPLEMENTARY INFORMATION: The following questions will be covered in this section:

A. What action is EPA taking?

B. What air pollutants are reduced by the changes to Connecticut's regulations?

C. Who is affected by today's action?

D. Where do the changes to the regulations apply?

E. When does today's action take effect?

F. What is “reasonably available control technology,” or RACT?

1. What is EPA's recommended VOC RACT for Miscellaneous Metal Parts and Products Coatings?

2. Do the Changes to Connecticut's VOC RACT for Miscellaneous Metal Parts and Products Coatings Meet EPA Guidance?

G. Why is EPA promulgating a full approval of the changes to subsections 22a-174-1, 22a-174-20(b), 22a-174-20(l), 22a-174-20(s) and section 22a-174-32?

H. Where to go for more information on the changes to Connecticut's regulations?

I. What does “direct final rulemaking” mean?

A. What Action Is EPA Taking?

EPA is approving State Implementation Plan (SIP) revisions submitted by the State of Connecticut (CT). This action revises various volatile organic compound (VOC) regulations that are currently in the CT SIP. EPA is fully approving the following sections of the regulations of the State of Connecticut as changes to CT's SIP: (1) revisions to the definition of VOC, section 22a-174-1(97); (2) revisions to the gasoline loading regulation, section 22a-174-20(b); (3) revisions to the metal cleaning regulation, section 22a-174-20(l); (4) revisions to the miscellaneous metal parts and products coating regulation, section 22a-174-20(s); and (5) revisions to CT's reasonably available control technology (RACT) for VOC regulation, section 22a-174-32.

In addition to the regulatory changes, EPA is also approving negative declarations submitted by CT for two post-1990 CTG categories. Specifically, EPA is approving CT's negative declarations for the synthetic organic chemical manufacturing industry (SOCMI) distillation and reactor vessel source categories for which EPA issued CTG documents in 1993. Section 182(b)(2)(A) of the Clean Air Act (CAA) requires states with ozone nonattainment areas to revise their SIPs to require RACT at facilities in each industrial category covered by a CTG that is issued by the Administrator between November 1990 and the date of attainment. Through the negative declaration, CT is asserting that there are no sources within the State that would be subject to a rule for these source categories. EPA is approving this negative declaration submittal as meeting the section 182(b)(2)(A) RACT requirements for these two source categories. However, if evidence is submitted by November 20, 2000 that there are existing sources within CT that, for purposes of meeting the RACT requirements, would be subject to a rule for these categories, if developed, such comments would be considered adverse and EPA would withdraw its approval action on the negative declarations.

Additionally, in order to meet the requirements of section 182(b)(2)(A), CT revised section 22a-174-32 to apply to facilities subject to the three other final CTGs issued by EPA since 1990, i.e., the wood furniture, shipbuilding and repair, and aerospace coating CTGs. The revised section 22a-174-32 explicitly applies to wood furniture manufacturing and aerospace manufacturing and rework facilities. And, although there is no explicit applicability provision for shipbuilding facilities, section 22a-174-32 was revised to apply now to all major stationary sources, which is consistent with the applicability of the final shipbuilding CTG, as explained further below.

B. What Air Pollutants Are Reduced by the Changes to Connecticut's Regulations?

The changes to CT's regulations reduce emissions of volatile organic compounds, or VOCs. Volatile organic compounds are certain types of hydrocarbons that are precursors to the type of air pollution known as ground level ozone, the main ingredient of smog. Ground-level ozone is formed by a chemical reaction between VOCs and oxides of nitrogen ( NOX) in the presence of sunlight. Therefore, the changes to CT's regulations will help reduce ground level ozone.

C. Who Is Affected by Today's Action?

Today's action approves changes to category-specific regulations that affect a variety of VOC-emitting industrial facilities. Section 22a-174-20(b) applies to gasoline and volatile organic liquid loading facilities. Section 22a-174-20(l) applies to facilities that clean or prepare metal surfaces. Section 22a-174-20(s) applies to facilities that paint and coat certain kinds of metal parts and products.

Additionally, section 22a-174-32 is a general VOC RACT regulation that applies to all VOC emitting processes that are not already regulated by other VOC control regulations in the CT SIP. Today's action approves changes to the applicability of the earlier section 22a-174-32 requirements in order to include emissions from processes previously unregulated under the SIP such as: coating or painting wood products, coating or painting aerospace products, painting or refinishing commercial ships, storing volatile organic liquids, producing batch chemicals or pharmaceuticals, producing VOC-laden industrial wastewater and the coating of plastics.

D. Where Do the Changes to the Regulations Apply?

All of the regulations being considered are applicable across the state. However, the applicability of section 22a-174-32 varies depending on the location of the VOC-emitting facility. In the area of CT designated as serious nonattainment of the ozone standard, the regulation applies to facilities with the potential to emit 50 tons of VOC or more per year. This area covers all of the State with the exception of southwestern CT. In the southwestern portion of CT designated as severe nonattainment for ozone, the regulation applies to facilities with the potential to emit 25 tons of VOC or more per year.

Since the shipbuilding CTG applies to facilities with the potential to emit 50 tons of VOC or more per year, the applicability of section 22a-174-32 now covers any shipbuilding sources subject to EPA's CTG. Also, consistent with the aerospace and wood furniture manufacturing CTGs, section 22a-174-32 specifically applies to facilities with the potential to emit 25 tons of VOC or more per year regardless of location within the state.

E. When Does Today's Action Take Effect?

If EPA receives no relevant adverse comments during the 30-day public comment period that follows the publication of this notice, EPA approval action will be effective 60 days after the date of publication.

F. What Is “Reasonably Available Control Technology,” or RACT?

EPA defines RACT as the lowest emission limit that an existing polluting source is capable of meeting if it uses pollution control equipment and/or material or process changes that are reasonably available considering costs and current technology. For many VOC-emitting industrial categories, EPA has published control technique guidelines, or CTGs. CTGs analyze available control technologies and recommend emission limitations or technology standards that are considered economically feasible.

The changes being considered today to CT's definition of VOC, gasoline loading, and metal cleaning regulations do not affect the CTG-based RACT standards that are part of the existing regulations in CT. The changes being considered for CT's general VOC RACT regulation do not change the RACT norms established in the previous version of the regulation but do expand the applicability to cover additional facilities.

However, the changes being considered to CT's miscellaneous metal parts and products coating regulations define RACT for a new category of coatings, i.e., the “high performance architectural aluminum coatings.”

1. What Is EPA's Recommended VOC RACT for Miscellaneous Metal Parts and Products Coatings?

In the CTG for miscellaneous metal parts and products, EPA recommended limits for the VOC quantity of various metal coatings. For the “outdoor, harsh exposure, or extreme performance” coatings, EPA recommended a RACT limit of 3.5 pounds of VOC per gallon of coating, minus water and exempt solvents, at a cost effectiveness of $6,841 or less per ton VOC removed. See EPA document number EPA-450/2-78-015 for more details.

2. Do the Changes to Connecticut's VOC RACT for Miscellaneous Metal Parts and Products Coatings Meet EPA Guidance?

The revisions to section 22a-174-20(s) are approvable. These revisions include a new definition of “high performance architectural aluminum coating” and a 6.3 lb VOC per gallon of coating emission limit for this type of coating. CT's alternative limit, which represents a relaxation from the EPA Control Technique Guideline limit of 3.5 lbs VOC per gallon of coating, only applies to a coating applicator that emits 3,333 lbs of VOC per month or less (approximately 20 tons per year) and was an existing source in CT on or before November 1, 1994. CT's revisions were proposed in August 1994 and were adopted and effective in the State of Connecticut on March 1, 1995.

At the time of CT's rulemaking, it was documented that compliant coatings (3.5 lb VOC per gallon of coating) were not available at that add-on controls that were estimated to cost in excess of $15,000 per ton of VOC removed were not considered cost-effective. In addition, as previously stated, CT's alternative limit only applies to coating applicators in use in CT prior to November 1994 and is limited to 20 tons per year per applicator. There are only two applicators in CT that meet these criteria. Therefore, only 40 tons of VOC per year could be emitted at the higher limit. Also, new sources of sufficient size would trigger a BACT (Best Available Control Technology) or LAER (Lowest Achievable Emission Rate) review under CT's new source review program for minor and major sources. Furthermore, examination of CT's 1996 periodic emissions inventory shows that the 40 tons represents only 2 percent of CT's approximately 1990 tons of VOC emissions per year from miscellaneous metal parts and products surface coating operations. EPA's Blue Book ¹ allows for deviations from CTG recommendations by means of the “5 percent rule” (i.e., emission resulting from implementation of the state's alternative must be within 5 percent of emissions resulting from implementation of EPA's CTG-based model rule).

¹ “Issues Relating to VOC Regulation Cutpoints, Deficiencies, and Deviations: Clarification to Appendix D of November 24, 1987 Federal Register” (May 25, 1988)

Also, section 193 of the Clean Air Act (i.e., the General Savings Clause), requires that any regulation in effect before the date of the enactment of the Clean Air Act Amendments of 1990 in any non-attainment area may only be modified if the modification insures equivalent or greater reductions of the same pollutant. Although the changes to pre-1990 section 22a-174-20(s) represent a potential increase in emissions of 40 tons per year, the expanded applicability of section 22a-174-32 is projected to reduce emissions by more than 40 tons per year. Given the VOC reductions resulting from the regulatory changes being acted on at this time, CT meets the requirements of the Savings Clause of section 193 of the Act.

G. Why Is EPA Promulgating a Full Approval of the Changes to Subsections 22a-174-1, 22a-174-20(b), 22a-174-20(l), 22a-174-20(s) and Section 22a-174-32?

The revisions submitted for subsections 22a-174-1, 22a-174-20(b), 22a-174-20(l), 22a-174-20(s), and the negative declarations for SOCMI reactor and distillation processes, are consistent with EPA guidance and meet the requirements of the CAA. Therefore, EPA is fully approving these changes as revisions to the Connecticut SIP.

Section 22a-174-32 establishes four RACT options. Options (A) and (B) of section 22a-174-32(e)(1), in combination with 22a-174-32(e)(2) and (e)(3), are methods of achieving RACT by either: (A) operating a system to capture and control VOC emissions to reduce VOC emissions by at least 85 percent of uncontrolled emissions; or by (B) reducing VOC use and emissions by 80 percent through reformulation or process changes. Options (C) and (D) are methods of achieving RACT through the use of emission reduction credits or an alternative compliance plan.

Options (A) and (B) define approvable VOC RACT methods. Options (C) and (D), however, describe processes by which RACT can be defined, but do not define RACT. Connecticut must define explicitly, and have approved by EPA, RACT for all of those sources complying with section 22a-174-32 through Options (C) and (D).

On October 5, 2000, EPA received a letter from Connecticut identifying the facilities for which RACT orders had not yet been issued and will be under section 22a-174-32(e)(1)(C) or (D). They are:

1. Keeler and Long/PPG Architectural Finishes

2. Hitchcock Chair Co. Ltd.

3. Carlon Rubber Products

4. Danbury Pharmacal

Connecticut has not yet submitted any of the necessary single source SIP revisions. Connecticut must submit and EPA must approve single source SIP revisions for the four sources listed above.

Although EPA has not received the final single source SIP revisions for these four facilities, section 22a-174-32 is fully approvable. On November 7, 1996, EPA issued a policy memorandum entitled “Approval Options for Generic RACT Rules Submitted to Meet the non-CTG VOC RACT Requirements and Certain NOX RACT Requirements,” ² which applies to section 22a-174-32. Generic RACT provisions are those portions of a regulation where the emission limit or technology standard is not specified in the rule, rather, the determination of a limit is to be made on a case-by-case basis. Under the Act, these case-specific RACT determinations must be submitted to EPA as revisions to a State's SIP. The generic RACT policy allows full approval of a State's non-CTG VOC RACT regulation which contains generic provisions if an analysis has been completed that demonstrates that the remaining case-specific VOC RACT determinations involve a de minimis level of VOC emissions.

² November 7, 1996 memorandum from Sally Shaver, Director, Air Quality Strategies and Standards Division, Office of Air Quality Planning and Standards, to Air Program Directors, EPA Regional Offices.

In the case of Connecticut's section 22a-174-32, analysis has shown that the emissions remaining to be covered by the case-specific RACT determinations for the four facilities constitute less than 3.5% of Connecticut's base year non-CTG VOC RACT emissions. Under the generic RACT policy, such emissions can be considered to be de minimis. Given this analysis, section 22a-174-32, including the generic provisions, is fully approvable.

It is important to note that approval of this regulation under the generic RACT policy does not exempt any remaining miscellaneous sources from RACT; rather it is a de minimis deferral of the approval of the remaining case-by-case RACT determinations. This means that approval of section 22a-174-32 will not relieve the remaining sources of the obligation to develop, submit and implement RACT level controls. Similarly, approval will not relieve Connecticut of the obligation to ensure that all sources within the State comply with the VOC RACT requirements of the Act by adopting and implementing emission limitations or technology standards. In fact, approval of this regulation will serve to reinforce the requirement for the State to submit any remaining case-specific RACT determinations. Because section 22a-174-32 requires that non-CTG VOC RACT determinations be submitted to EPA for approval as SIP revisions, approval of the regulation will make the requirement to submit remaining non-CTG VOC RACT orders enforceable by EPA, as well as by citizens under section 304 of the Act.

H. Where to Go for More Information on the Changes to Connecticut's Regulations?

For a more detailed discussion of the changes to Connecticut's VOC RACT regulations and EPA's evaluation, you can refer to the technical support document, entitled, “Technical Support Document—Connecticut—Changes to Various VOC Regulations,” dated December 15, 1999 and the amendment to that document. For copies of the Technical Support Document, contact the EPA or the Connecticut Department of Environmental Protection at the addresses listed in the addresses section of this notice.

I. What Does “Direct Final Rulemaking” Mean?

Essentially, “direct final rulemaking” means that the EPA is publishing this rule without prior proposal because the Agency views this as a noncontroversial amendment and anticipates no adverse comments. However, in the proposed rules section of this Federal Register publication, EPA is publishing a separate document that will serve as the proposal to approve the SIP revision should relevant adverse comments be filed. This action will be effective December 18, 2000 without further notice unless the Agency receives relevant adverse comments by November 20, 2000. Please note that if EPA receives adverse comment on an amendment, paragraph, or section of this rule and if that provision may be severed from the remainder of the rule, EPA may adopt as final those provisions of the rule that are not the subject of an adverse comment.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on December 18, 2000 and no further action will be taken on the proposed rule.

II. Final Action

EPA is approving the SIP revisions concerning CT's changes to subsections 22a-174-1(97), 22a-174-20(b), 22a-174-20(l), 22a-174-20(s), and section 22a-174-32, as well as the negative declarations for SOCMI reactor and distillation processes CTG categories.

III. Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 18, 2000. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Ozone, Reporting and recordkeeping requirements.

Dated: October 6, 2000.
Mindy S. Lubber,
Regional Administrator, EPA-New England.

Part 52 of chapter I, title 40 of the Code of Federal Regulations is amended as follows:

PART 52—[AMENDED]

1. The authority citation for part 52 continues to read as follows:

Authority: 42 U.S.C. 7401 et seq.

Subpart H—Connecticut

§ 52.370 [Amended]

2. Section 52.369 is revised by removing and reserving paragraph (c).

3. Section 52.370 is amended by adding paragraph (c)(84) to read as follows:

§ 52.370 Identification of plan.

* * * * *

(c) * * *

(84) Revisions to the State Implementation Plan submitted by the Connecticut Department of Environmental Protection on April 15, 1997, April 20, 1998, and September 2, 1999.

(i) Incorporation by reference.

(A) Section 22a-174-1(97) of the Regulation of the Connecticut State Agencies, definition of the term “Volatile organic compound” or “VOC,” effective in the State of Connecticut on December 22, 1997.

(B) Section 22a-174-20(b) of the Regulation of the Connecticut State Agencies, entitled “Loading of gasoline and other volatile organic compounds,” effective in the State of Connecticut on April 1, 1998.

(C) Section 22a-174-20(l) of the Regulation of the Connecticut State Agencies, entitled “Metal cleaning,” effective in the State of Connecticut on August 23, 1996.

(D) Section 22a-174-20(s) of the Regulation of the Connecticut State Agencies, “Miscellaneous metal parts and products,” effective in the State of Connecticut on March 1, 1995.

(E) Section 22a-174-32 of the Regulation of the Connecticut State Agencies, entitled “Reasonably Available Control Technology (RACT) for volatile organic compounds,” effective in the State of Connecticut on August 27, 1999.

(ii) Additional materials.

(A) Letters from the Connecticut Department of Environmental Protection dated April 15, 1997, April 20, 1998, and September 2, 1999 submitting revisions to the Connecticut State Implementation Plan.

4. Section 52.375 is amended by adding paragraphs (e) and (f) to read as follows:

§ 52.375 Certification of no sources.

* * * * *

(e) Synthetic organic chemical manufacturing industry (SOCMI) distillation.

(f) Synthetic organic chemical manufacturing industry (SOCMI) reactor vessels.

§ 52.380 [Amended]

5. Section 52.380 is amended by removing and reserving paragraph (c)(2).

6. In § 52.385, Table 52.385 is amended by adding entries to the existing state citations for 22a-174-1, 22a-174-20, and 22a-174-32, to read as follows:

§ 52.385 EPA-approved Connecticut Regulations.

* * * * *

Table 52.385—EPA-Approved Regulations
Connecticut State citation | Title/subject | Dates: Date adopted by State | Dates: Date approved by EPA | Federal Register citation | Section 52.370 | Comments/description
* * * * * * *
22a-174-1 | * * * | 12/22/97 | 10/19/00 | [insert FR citation from published date] | (c)(84) | Changes to the definition of VOC to exempt certain negligibly photoreactive compounds.
* * * * * * *
22a-174-20 | Loading gasoline and other volatile organic compounds | 4/1/98 | 10/19/00 | [insert FR citation from published date] | (c)(84) | Changes to gasoline and volatile organic loading regulations.
| Metal cleaning | 8/23/96 | 10/19/00 | [insert FR citation from published date] | (c)(84) | Changes to metal cleaning regulations.
| Miscellaneous metal parts and products | 8/1/95 | 10/19/00 | [insert FR citation from published date] | (c)(84) | Changes to regulations to add emission limit for architectural aluminum panels.
* * * * * * *
22a-174-32 | * * * | 8/27/99 | 10/19/00 | [insert FR citation from published date] | (c)(84) | Changes to the non-CTG regulation.
* * * * * * *

[FR Doc. 00-26613 Filed 10-18-00; 8:45 am]

BILLING CODE 6560-50-P